DEPARTMENT OF HOMELAND SECURITY

Federal Emergency Management Agency

Agency Information Collection Activities: Submission for OMB Review; Comment Request

AGENCY: Federal Emergency Management Agency, Emergency Preparedness and Response Directorate, U.S. Department of Homeland Security.

ACTION: Notice and request for comments.

SUMMARY: The Federal Emergency Management Agency (FEMA) has submitted the following information collection to the Office of Management and Budget (OMB) for review and clearance in accordance with the requirements of the Paperwork Reduction Act of 1995 (44 U.S.C. Chapter 35). The submission describes the nature of the information collection, the categories of respondents, the estimated burden (i.e., the time, effort and resources used by respondents to respond) and cost, and includes the actual data collection instruments FEMA will use.

Title: Pre-Disaster Mitigation (PDM) Grant Program eGrants.

OMB Number: 1660-0071.

Abstract: FEMA uses the PDM program eGrant application, evaluation, and award process to provide Federal grant assistance to grantees (State and federally recognized tribal government) who administer grant awards for sub-grantee applicants (State-level agencies, federally recognized indian tribal governments, local governments, public colleges and universities, tribal colleges and universities, and regional planning districts and councils of governments). Private-non-profit (PNP) organizations and private colleges and universities are not eligible sub-applicants; however, a relevant State agency or local government may apply to the grant applicant for assistance on their behalf. The grant assistance must be used to develop mitigation plans in accordance with section 322 of the Disaster Mitigation Act of 2000 to implement pre-disaster mitigation projects that reduce the risks of natural and technological hazards on life and property, and to provide information and technical assistance on cost-effective mitigation activities.

Affected Public: State, local or tribal government.

Number of Respondents: 1176.

Estimated Time per Respondent: For purposes of this information collection extension, we are estimating the burden hours to be the same (that is no increase or decrease change) as the December, 2004 OMB Approval 1660-0071. That approval included all of the required applications and grant forms for submittal either on paper or through e-Grants, regardless of the method that the Grantee chooses to use to submit the information.

Grant Application and Reporting Forms
Type of collection forms | Number of respondents | Number of responses/ respondent | Hours per response and record keeping | Annual burden hours
| (A) | (B) |  | (A*B*C)
SF-424 (Application face sheet) | 56 | 2 | 45 minutes | 84.0
Budget Information—Construction Program, FEMA Form 20-15 | 56 | 1 | 17.2 hours | 963.2
FEMA Form 20-20—Budget—Non-Construction ¹ | 56 | 2 | 9.7 hours | 1086.4
FEMA Form 20-16, 20-16A, 20-16B, 20-16C (Summary of assurances & certifications) | 56 | 2 | 1.7 hours | 190.4
SF-LLL (lobbying disclosure) | 56 | 2 | 10 minutes | 18.7
FEMA Form 20-10—Financial Status Report | 56 | 8 | 1 hour | 448.0
FEMA Form 76-10A—Obligating Document For Award/Amendment | 56 | 2 | 1.2 hours | 134.40
FEMA Form 20-17 Outlay Report and Request for Reimbursement | 56 | 20 | 17.2 hours | 19264.0
FEMA Form 20-18—Report of Government Property | 56 | 2 | 4.2 hours | 235.2
FEMA 20-19—Report of Unobligated Balance (or substitute) | 56 | 2 | 5 minutes | 9.3
Annual Audit & Audit Trail Requirements | 56 | 1 | 30 hours | 28.0
Subtotal for Standard Forms (SF) & FEMA forms (FF) |  |  |  | 22,013.4

Pre-Disaster Mitigation Grant Program—Sub-Grant Applications
Type of collection forms | Number of respondents | Number of responses/ respondent | Hours per response and record keeping | Annual burden hours
| (A) | (B) |  | (A*B*C)
Benefit-Cost Determination—Sub-grant Application | 56 | 20 | 5 hours | 5600.0
Environmental Review—Sub-grant application | 56 | 20 | 7.5 hours | 8400.0
Project Narrative—Sub-grant application (including PDM Evaluation Information Questions) | 56 | 20 | 12 hours | 13440.0
Subtotal for Grant Supplemental Information |  |  |  | 27,440
Total Burden for PDM |  |  |  | 50,887

Comments: Interested persons are invited to submit written comments on the proposed information collection to the Office of Information and Regulatory Affairs at OMB, Attention: Desk Officer for the Department of Homeland Security/FEMA at e-mail address kflee@omb.eop.gov or facsimile number (202) 395-7285. Comments must be submitted on or before September 23, 2005. In addition, interested persons may also send comments to FEMA (see contact information below).

FOR FURTHER INFORMATION CONTACT: Requests for additional information or copies of the information collection should be made to Muriel B. Anderson, Chief, Records Management Section, FEMA at 500 C Street, SW., Room 316, Washington, DC 20472, facsimile number (202) 646-3347, or e-mail address FEMA-Information-Collections@dhs.gov.

Dated: August 18, 2005.
George S. Trotter,
Acting Branch Chief, Information Resources Management Division, Information Technology Services Directorate.

[FR Doc. 05-16823 Filed 8-23-05; 8:45 am]

BILLING CODE 9110-41-P